DEPARTMENT OF HEALTH AND HUMAN SERVICES

National Institutes of Health

Center For Scientific Review; Amended Notice of Meeting

Notice is hereby given of a change in the meeting of the Center for Scientific Review Special Emphasis Panel, December 02, 2015, 01:00 p.m. to December 02, 2015, 02:00 p.m., National Institutes of Health, 6701 Rockledge Drive, Bethesda, MD 20892 which was published in the Federal Register on November 12, 2015, 80 FR 69972-69973.

The meeting is now being held on December 15, 2015 from 01:00 p.m. to 02:00 p.m. at the location listed above. The meeting is closed to the public.

Dated: December 1, 2015.
Natasha M. Copeland,
Program Analyst, Office of Federal Advisory Committee Policy.

[FR Doc. 2015-31028 Filed 12-8-15; 8:45 am]

BILLING CODE 4140-01-P